DEPARTMENT OF AGRICULTURE

Animal and Plant Health Inspection Service

[Docket No. APHIS-2013-0003]

Asian Longhorned Beetle Eradication Program; Record of Decision

AGENCY: Animal and Plant Health Inspection Service, USDA.

ACTION: Notice.

SUMMARY: We are advising the public that the Animal and Plant Health Inspection Service has prepared a record of decision for the final environmental impact statement for the Asian Longhorned Beetle Eradication Program.

DATES: Effective March 24, 2016.

ADDRESSES: You may read the documents referenced in this notice and any comments we received in our reading room. The reading room is located in room 1141 of the USDA South Building, 14th Street and Independence Avenue SW., Washington, DC. Normal reading room hours are 8 a.m. to 4:30 p.m., Monday through Friday, except holidays. To be sure someone is there to help you, please call (202) 799-7039 before coming. Those documents are posted with the comments we received on the Regulations.gov Web site at http://www.regulations.gov/#!docketDetail;D=APHIS-2013-0003.

FOR FURTHER INFORMATION CONTACT: For questions related to the Asian Longhorned Beetle Eradication Program, contact Dr. Robyn Rose, National Asian Longhorned Beetle Eradication Program Manager, PPQ, APHIS, 4700 River Road, Unit 26, Riverdale, MD 20737; (301) 851-2283. For questions related to the environmental impact statement, contact Dr. Jim E. Warren, Environmental Protection Specialist/Environmental Toxicologist, Environmental and Risk Analysis Services, PPD, APHIS, 4700 River Road, Unit 149, Riverdale, MD 20737; (202) 316-3216.

SUPPLEMENTARY INFORMATION:

Background

On August 16, 2013, the United States Department of Agriculture's (USDA) Animal and Plant Health Inspection Service (APHIS) published a notice in the Federal Register (78 FR 50022-50023) announcing the agency's plans to prepare an environmental impact statement to analyze the effects of a program to eradicate the Asian longhorned beetle from wherever it might occur in the United States. The notice identified potential issues and alternatives that would be studied in the environmental impact statement and requested public comments to further delineate the scope of the alternatives and environmental impacts and issues.

A notice of availability for the draft EIS was initially published by the Environmental Protection Agency (EPA) in the Federal Register on March 13, 2015 (80 FR 13373, Docket No. ER-FRL-9019-9), and a notice of availability regarding the final EIS was published by EPA in the Federal Register on September 11, 2015 (80 FR 54785-54786, Docket No. ER-FRL-9022-8).

The National Environmental Policy Act (NEPA) implementing regulations in 40 CFR 1506.10 require a minimum 30-day waiting period between the time a final EIS is published and the time an agency makes a decision on an action covered by the EIS. APHIS has reviewed the final EIS and comments received during the 30-day waiting period and has concluded that the final EIS fully analyzes the issues covered by the draft EIS and the comments and suggestions submitted by commenters. Based on our final EIS, the responses to public comments, and other pertinent scientific data, APHIS has prepared a record of decision.

The record of decision has been prepared in accordance with: (1) NEPA, as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 17th day of March 2016.
Kevin Shea,
Administrator, Animal and Plant Health Inspection Service.

[FR Doc. 2016-06660 Filed 3-23-16; 8:45 am]

BILLING CODE 3410-34-P